DEPARTMENT OF COMMERCE

Foreign-Trade Zones Board

[Order No. 1460]

Grant of Authority for Subzone Status, WLS Drilling Products, Inc. (Mining Drill Bits), Montgomery, Texas

Pursuant to its authority under the Foreign-Trade Zones Act of June 18, 1934, as amended (19 U.S.C. 81a-81u), the Foreign-Trade Zones Board (the Board) adopts the following Order:

Whereas, the Foreign-Trade Zones Act provides for “ . . . the establishment . . . of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the City of Conroe (Texas), grantee of Foreign-Trade Zone 265, has made application to the Board for authority to establish special-purpose subzone status at the warehousing and distribution facility (mining drill bits) of WLS Drilling Products, Inc., located in Montgomery, Texas (FTZ Docket 10-2005, filed 2/25/2005);

Whereas, notice inviting public comment has been given in the Federal Register (70 FR 10951-10952, 3/7/2005); and,

Whereas, the Board adopts the findings and recommendations of the examiner's report, and finds that the requirements of the FTZ Act and the Board's regulations are satisfied, and that approval of the application is in the public interest;

Now, therefore, the Board hereby grants authority for subzone status for distribution activity involving mining drill bits at the warehousing/distribution facility of WLS Drilling Products, Inc., located in Montgomery, Texas (Subzone 265A), as described in the application and Federal Register notice, for an initial period of five years (to July 1, 2011), subject to extension upon review, and subject to the FTZ Act and the Board's regulations, including Section 400.28.

Signed at Washington, DC, this 30th day of June 2006.
David M. Spooner,
Assistant Secretary of Commerce, for Import Administration, Alternate Chairman, Foreign-Trade Zones Board.
Attest:
Andrew McGilvray,
Acting Executive Secretary,

[FR Doc. E6-10954 Filed 7-11-06; 8:45 am]

BILLING CODE 3510-DS-S